ENVIRONMENTAL PROTECTION AGENCY

[EPA-HQ-OPPT-2006-0344; FRL-8060-1]

Pollution Prevention Information Network Grants; Request for Applications

AGENCY: Environmental Protection Agency (EPA).

ACTION: Notice.

SUMMARY: Under the authority of the Pollution Prevention Act of 1990, EPA anticipates that approximately $700,000 will be available to support grants to States in Fiscal Year (FY) 2006 for programs to promote the use of successful pollution prevention techniques by businesses and technical assistance providers. This grant program seeks to increase access to pollution prevention information and ensure this information is available to all facilities, businesses, or technical assistance providers. Federal funds must be matched dollar for dollar in this grant program. The maximum cost of an application is $240,000 with $120,000 from Federal funding.

DATES: Applications must be received on or before July 31, 2006.

FOR FURTHER INFORMATION CONTACT: Beth Anderson, Pollution Prevention Division (7409M), Office of Pollution Prevention and Toxics, Environmental Protection Agency, 1200 Pennsylvania Ave., NW., Washington, DC 20460-0001; telephone number: (202) 564-8833; fax number: (202) 564-8899; e-mail address: anderson.beth@epa.gov.

SUPPLEMENTARY INFORMATION:

I. General Information

A. Does This Action Apply to Me?

This action is directed to States, State entities (colleges and universities), Tribes, and Intertribal Consortia. This notice may, however, be of interest to local governments, private universities, private nonprofit entities, private businesses, and individuals who are not eligible for this grant program. If you have any questions regarding the applicability of this action to a particular entity, consult the person listed under FOR FURTHER INFORMATION CONTACT.

B. How Can I Get Copies of This Document and Other Related Information?

1. Docket. EPA has established a docket for this action under docket identification (ID) number EPA-HQ-OPPT-2006-0344; FRL-8060-1. Publicly available docket materials are available electronically at http://www.regulations.gov or in hard copy at the OPPT Docket in the EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr.

II. Overview

The following listing provides certain key information concerning the application opportunity.

• Federal agency name: Environmental Protection Agency.

• Funding opportunity title: Pollution Prevention Information Network Grants.

• Funding opportunity number: EPA-OPPT-06-15.

• Announcement type: Request for applications.

• Catalog of Federal Domestic Assistance (CFDA) number: 66.708.

• Dates: Applications must be received on or before July 31, 2006.

The full text of the grant announcement, along with detailed information, is available on the Agency's Web site at http://www.epa.gov/opptintr/p2home/grants/index.htm. The full text of the grant announcement includes specific information regarding purpose and scope, activities to be funded, eligibility requirements, application and submission information, and application review information.

List of Subjects

Environmental protection, Grant programs-environmental protection, Pollution prevention.

Dated: June 7, 2006.
Susan B. Hazen,
Acting Assistant Administrator, Office of Prevention, Pesticides and Toxic Substances.

[FR Doc. E6-9361 Filed 6-14-06; 8:45 am]

BILLING CODE 6560-50-S